DEPARTMENT OF LABOR

Occupational Safety and Health Administration

[Docket Nos. NRTL1-88, NRTL1-89, NRTL2-90, NRTL3-90, NRTL2-92, NRTL3-92, NRTL1-93, NRTL2-93, NRTL3-93, NRTL4-93, NRTL1-97, NRTL1-98, NRTL1-99, NRTL1-2001, NRTL2-2001]

Modify Scope of Recognition of NRTLs

AGENCY: Occupational Safety and Health Administration (OSHA), Labor.

ACTION: Notice.

SUMMARY: This notice modifies the scope of recognition of certain Nationally Recognized Testing Laboratories (NRTLs).

EFFECTIVE DATE: January 6, 2003.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION: The Occupational Safety and Health Administration (OSHA) hereby gives notice of changes to the scope of recognition of the Nationally Recognized Testing Laboratories (NRTLs) listed below. Specifically, some of the test standards that OSHA currently includes in the scope of recognition of these NRTLs are no longer “appropriate test standards” primarily because they have been withdrawn or replaced. As a result, we will delete them from the scope of recognition of each affected NRTL, as listed below in this notice. This modification in scope will be noted by making appropriate changes to the listing of test standards in our informational Web page for each NRTL, which detail OSHA's official scope of recognition for the NRTL. These Web pages can be accessed at http://www.osha-slc.gov/dts/otpca/nrtl/index.html. In this notice, we list the test standards to be removed for each NRTL below under the heading “Withdrawn or Replaced Standards.” We provide the following information for those who may be unfamiliar with OSHA requirements concerning NRTLs.

OSHA recognition of any NRTL signifies that the organization has met the legal requirements in section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

In testing and certifying (i.e., approving) such products, NRTLs must demonstrate that the products conform to “appropriate test standards.” This term is defined under 29 CFR 1910.7(c) and essentially means consensus-based product safety test standards developed and maintained current by U.S.-based standards developing organizations (SDOs). Such test standards are not OSHA standards, which are general requirements that employers must meet, but, individually, specify technical safety requirements that a particular type of product must meet.

OSHA recognizes each NRTL for a particular scope of recognition, which includes a list of those product safety test standards that the NRTL may use in approving products. As a normal part of its operations, an SDO occasionally withdraws existing test standards or adopts replacement test standards. In such cases, OSHA can no longer consider the withdrawn or replaced standards as “appropriate,” and as a result, the Agency can no longer recognize NRTLs for the standard.

To substitute other test standards for those we are removing, under our policy, the NRTL may request or OSHA can provide recognition for comparable test standards, i.e., other appropriate test standards covering comparable product testing. We list these test standards below for each NRTL under the headings “Comparable Replacement Standards.” In one case (UL 1598), OSHA already includes the comparable test standard in the NRTL's scope. However, in many cases, there is no replacement standard or the NRTL did not request one prior to publication of this notice. However, if we receive such a request after publication of this notice and determine the test standard is “comparable,” as described above, OSHA will add it to the NRTL's scope of recognition and therefore to OSHA's informational web page for the NRTL.

Applied Research Laboratories, Inc. (ARL)

[Docket No. NRTL1-97]

Withdrawn or Replaced Standards

UL 1570 Fluorescent Lighting Fixtures

UL 1571 Incandescent Lighting Fixtures

UL 1572 High Intensity Discharge Lighting Fixtures

Comparable Replacement Standards (If Applicable)

UL 1598 Luminaries (already included in NRTL's scope)

Canadian Standards Association (CSA)

[Docket No. NRTL2-92]

Withdrawn or Replaced Standards

ANSI C37.71 Three Phase, Manually Operated Subsurface Load Interrupting Switches for Alternating-Current Systems

ANSI Z21.10.2 Water Heaters—Sidearm Type Water Heaters

ANSI Z21.11.1 Gas-Fired Room Heaters—Vented Room Heaters

ANSI Z21.48 Gas-Fired Gravity and Fan Type Floor Furnaces

ANSI Z21.49 Gas-Type Gravity and Fan Type Vented Wall Furnaces

ANSI Z83.3 Gas Utilization Equipment in Large Boilers

ANSI Z83.17 Direct Gas Fired Door Heaters

UL 198B Class H Fuses

UL 198C High-Interrupting-Capacity Fuses, Current Limiting Type

UL 198D Class K Fuses

UL 198E Class R Fuses

UL 198F Plug Fuses

UL 198G Fuse for Supplementary Overcurrent Protection

UL 198H Class T Fuses

UL 198L D-C Fuses for Industrial Use

ANSI/NEMA 250 Enclosures for Electrical Equipment

UL 910 Test for Flame-Propagation and Smoke-Density Values for Electrical and Optical-Fiber Cables Used in Spaces Transporting Environmental Air

UL 1087 Molded-Case Switches

UL 1244 Electrical and Electronic Measuring and Testing Equipment**

UL 1270 Radio Receivers, Audio Systems, and Accessories

UL 1409 Low-Voltage Video Products Without Cathode-Ray-Tube Displays

UL 1410 Television Receivers and High-Voltage Video Products

UL 1570 Fluorescent Lighting Fixtures

UL 1571 Incandescent Lighting Fixtures

UL 1572 High Intensity Discharge Lighting Fixtures

UL 3101-1 Electrical Equipment for Laboratory Use; Part 1: General Requirements

UL 3101-2-20 Electrical Equipment for Laboratory Use; Part 2: Laboratory Centrifuges

UL 3111-1 Electrical Measuring and Test Equipment; Part 1: General Requirements**

UL 3121-1 Process Control Equipment

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type**

UL 8730-2-6 Automatic Electrical Controls for Household and Similar Use; Part 2: Particular Requirements for Automatic Electrical Pressure Sensing Controls Including Mechanical Requirements

UL 8730-2-7 Automatic Electrical Controls for Household and Similar Use; Part 2: Particular Requirements for Timers and Time Switches

UL 8730-2-8 Automatic Electrical Controls for Household and Similar Use; Part 2: Particular Requirements for Electrically Operated Water Valves

UL 8730-2-9 Automatic Electrical Controls for Household and Similar Use; Part 2: Particular Requirements for Temperature Sensing Controls**

UL 8730-2-14 Automatic Electrical Controls for Household and Similar Use; Part 2: Particular Requirements for Electric Actuators

UL 60730-2-10 Automatic Electrical Controls for Household and Similar Use; Part 2: Particular Requirements for Electrically-Operated Motor Starting Relays

UL 60730-2-11 Automatic Electrical Controls for Household and Similar Use; Part 2: Particular Requirements for Energy Regulators

UL 60730-2-12 Automatic Electrical Controls for Household and Similar Use; Part 2: Particular Requirements for Electrically-Operated Doors

UL 60730-2-13 Automatic Electrical Controls for Household and Similar Use; Part 2: Particular Requirements for Humidity Sensing Controls

UL 60730-2-16 Automatic Electrical Controls for Household and Similar Use; Part 2: Particular Requirements for Automatic Electrical Water Level-Operating Controls of the Float Type for Household and Similar Applications

Comparable Replacement Standards (If Applicable)

UL 1598 Luminaries (already included in NRTL's scope)

UL 60730-1A Automatic Electrical Controls for Household and Similar Use; Part 1: General Requirements

UL 60730-2-3 Automatic Electrical Controls for Household and Similar Use; Part 2: Particular Requirements for Thermal Protectors for Ballasts for Tubular Fluorescent Lamps

UL 60730-2-6 Automatic Electrical Controls for Household and Similar Use; Part 2: Particular Requirements for Automatic Electrical Pressure Sensing Controls Including Mechanical Requirements

UL 60730-2-7 Automatic Electrical Controls for Household and Similar Use; Part 2: Particular Requirements for Timers and Time Switches

UL 60730-2-10A Automatic Electrical Controls for Household and Similar Use; Part 2: Particular Requirements for Motor Starting Relays

UL 60730-2-11A Automatic Electrical Controls for Household and Similar Use; Part 2: Particular Requirements for Energy Regulators

UL 60730-2-12A Automatic Electrical Controls for Household and Similar Use; Part 2: Particular Requirements for Electrically Operated Door Locks

UL 60730-2-13A Automatic Electrical Controls for Household and Similar Use; Part 2: Particular Requirements for Humidity Sensing Controls

UL 60730-2-14 Automatic Electrical Controls for Household and Similar Use; Part 2: Particular Requirements for Electric Actuators

UL 60730-2-16A Automatic Electrical Controls for Household and Similar Use; Part 2: Particular Requirements for Automatic Electrical Water Level Controls

UL 61010A-1 Electrical Equipment for Laboratory Use; Part 1: General Requirements

UL 61010A-2-020 Electrical Equipment for Laboratory Use; Part 2: Particular Requirements for Laboratory Centrifuges

UL 61010C-1 Process Control Equipment

Curtis-Straus LLC (CSL)

[Docket No. NRTL-1-99]

Withdrawn or Replaced Standards

UL 3101-1 Electrical Equipment for Laboratory Use; Part 1: General Requirements

Comparable Replacement Standards (If Applicable)

UL 61010A-1 Electrical Equipment for Laboratory Use; Part 1: General Requirements

Entela, Inc. (ENT)

[Docket No. NRTL2-93]

Withdrawn or Replaced Standards

UL 1244 Electrical and Electronic Measuring and Testing Equipment**

UL 1270 Radio Receivers, Audio Systems, and Accessories

UL 1410 Television Receivers and High-Voltage Video Products

UL 1570 Fluorescent Lighting Fixtures

UL 1571 Incandescent Lighting Fixtures

UL 1572 High Intensity Discharge Lighting Fixtures

UL 3101-1 Electrical Equipment for Laboratory Use; Part 1: General Requirements

UL 3111-1 Electrical Measuring and Test Equipment; Part 1: General Requirements**

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type**

UL 8730-2-8 Automatic Electrical Controls for Household and Similar Use; Part 2: Particular Requirements for Electrically Operated Water Valves

Comparable Replacement Standards (If Applicable)

UL 1598 Luminaries (already included in NRTL's scope)

UL 60730-1A Automatic Electrical Controls for Household and Similar Use; Part 1: General Requirements

UL 60730-2-3 Automatic Electrical Controls for Household and Similar Use; Part 2: Particular Requirements for Thermal Protectors for Ballasts for Tubular Fluorescent Lamps

UL 60730-2-16A Automatic Electrical Controls for Household and Similar Use; Part 2: Particular Requirements for Automatic Electrical Water Level Controls

UL 61010A-1 Electrical Equipment For Laboratory Use; Part 1: General Requirements

FM Global Technologies LLC (FMGT) [formerly Factory Mutual Research Corporation]

[Docket No. NRTL3-93]

Withdrawn or Replaced Standards

ANSI S12.12 Nonincendive Electrical Equipment for Use in Class I and II, Division 2, and Class III, Divisions 1 and 2, Hazardous (Classified) Locations

ANSI/NEMA 250 Enclosures for Electrical Equipment

Comparable Replacement Standards (If Applicable)

ANSI 12.12.01 Nonincendive Electrical Equipment for Use in Class I and II, Division 2 and Class III, Divisions 1 and 2 Hazardous (Classified) Locations

Intertek Testing Services NA, Inc. (ITSNA)

[Docket No. NRTL1-89]

Withdrawn or Replaced Standards

ANSI S12.12 Nonincendive Electrical Equipment for Use in Class I and II, Division 2, and Class III, Divisions 1 and 2, Hazardous (Classified) Locations

ANSI Z21.11.1 Gas-Fired Room Heaters—Vented Room Heaters

ANSI Z21.48 Gas-Fired Gravity and Fan Type Floor Furnaces

ANSI Z21.49 Gas-Type Gravity and Fan Type Vented Wall Furnaces

UL 136 Pressure Cookers (not appropriate—no NRTL approval requirement)

UL 198B Class H Fuses

UL 198D Class K Fuses

UL 198E Class R Fuses

UL 198F Plug Fuses

UL 198G Fuse for Supplementary Overcurrent Protection

UL 198H Class T Fuses

UL 198L D-C Fuses for Industrial Use

ANSI/NEMA 250 Enclosures for Electrical Equipment

UL 900 Air-Filter Units (not appropriate—no NRTL approval requirement)

UL 910 Test for Flame-Propagation and Smoke-Density Values for Electrical and Optical-Fiber Cables Used in Spaces Transporting Environmental Air

UL 1244 Electrical and Electronic Measuring and Testing Equipment**

UL 1270 Radio Receivers, Audio Systems, and Accessories

UL 1409 Low-Voltage Video Products Without Cathode-Ray-Tube Displays

UL 1410 Television Receivers and High-Voltage Video Products

UL 1570 Fluorescent Lighting Fixtures

UL 1571 Incandescent Lighting Fixtures

UL 1572 High Intensity Discharge Lighting Fixtures

UL 3101-1 Electrical Equipment for Laboratory Use; Part 1: General Requirements

UL 3111-1 Electrical Measuring and Test Equipment; Part 1: General Requirements**

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type**

UL 8730-2-7 Automatic Electrical Controls for Household and Similar Use; Part 2: Particular Requirements for Timers and Time Switches

UL 8730-2-8 Automatic Electrical Controls for Household and Similar Use; Part 2: Particular Requirements for Electrically Operated Water Valves

Comparable Replacement Standards (If Applicable)

ANSI 12.12.01 Nonincendive Electrical Equipment for Use in Class I and II, Division 2 and Class III, Divisions 1 and 2 Hazardous (Classified) Locations

UL 1598 Luminaries (already included in NRTL's scope)

UL 60730-1A Automatic Electrical Controls for Household and Similar Use; Part 1: General Requirements

UL 60730-2-3 Automatic Electrical Controls for Household and Similar Use; Part 2: Particular Requirements for Thermal Protectors for Ballasts for Tubular Fluorescent Lamps

UL 60730-2-7 Automatic Electrical Controls for Household and Similar Use; Part 2: Particular Requirements for Timers and Time Switches

UL 60730-2-16A Automatic Electrical Controls for Household and Similar Use; Part 2: Particular Requirements for Automatic Electrical Water Level Controls

UL 61010A-1 Electrical Equipment For Laboratory Use; Part 1: General Requirements

MET Laboratories, Inc. (MET)

[Docket No. NRTL1-88]

Withdrawn or Replaced Standards

UL 1244 Electrical and Electronic Measuring and Testing Equipment**

UL 1270 Radio Receivers, Audio Systems, and Accessories

UL 1409 Low-Voltage Video Products Without Cathode-Ray-Tube Displays

UL 1410 Television Receivers and High-Voltage Video Products

UL 1570 Fluorescent Lighting Fixtures

UL 1571 Incandescent Lighting Fixtures

UL 3101-1 Electrical Equipment for Laboratory Use; Part 1: General Requirements

UL 3111-1 Electrical Measuring and Test Equipment; Part 1: General Requirements**

Comparable Replacement Standards (If Applicable)

UL 1598 Luminaries (already included in NRTL's scope)

UL 61010A-1 Electrical Equipment For Laboratory Use; Part 1: General Requirements

National Technical Systems, Inc. (NTS)

[Docket No. NRTL1-98]

Withdrawn or Replaced Standards

UL 3101-1 Electrical Equipment for Laboratory Use; Part 1: General Requirements

UL 3111-1 Electrical Measuring and Test Equipment; Part 1: General Requirements**

Comparable Replacement Standards (If Applicable)

UL 61010A-1 Electrical Equipment For Laboratory Use; Part 1: General Requirements

SGS U.S. Testing Company, Inc. (SGSUS)

[Docket No. NRTL2-90]

Withdrawn or Replaced Standards

UL 1270 Radio Receivers, Audio Systems, and Accessories

UL 1571 Incandescent Lighting Fixtures

UL 3101-1 Electrical Equipment for Laboratory Use; Part 1: General Requirements

UL 3111-1 Electrical Measuring and Test Equipment; Part 1: General Requirements**

Comparable Replacement Standards (If Applicable)

UL 1492 Audio-Video Products and Accessories

UL 1598 Luminaries (already included in NRTL's scope)

UL 61010A-1 Electrical Equipment For Laboratory Use; Part 1: General Requirements

Southwest Research Institute (SWRI)

[Docket No. NRTL-3-90]

Withdrawn or Replaced Standards

UL 910 Test for Flame-Propagation and Smoke-Density Values for Electrical and Optical-Fiber Cables Used in Spaces Transporting Environmental Air

Comparable Replacement Standards (If Applicable)

None

TUV America, Inc. (TUVAM)

[Docket No. NRTL-2-2001]

Withdrawn or Replaced Standards

UL 1244 Electrical and Electronic Measuring and Testing Equipment**

UL 3101-1 Electrical Equipment for Laboratory Use; Part 1: General Requirements

UL 3111-1 Electrical Measuring and Test Equipment; Part 1: General Requirements**

Comparable Replacement Standards (If Applicable)

UL 61010A-1 Electrical Equipment For Laboratory Use; Part 1: General Requirements

TUV Product Services GmbH (TUVPSG)

[Docket No. NRTL-1-2001]

Withdrawn or Replaced Standards

UL 3101-1 Electrical Equipment for Laboratory Use; Part 1: General Requirements

UL 3111-1 Electrical Measuring and Test Equipment; Part 1: General Requirements**

Comparable Replacement Standards (If Applicable)

UL 61010A-1 Electrical Equipment For Laboratory Use; Part 1: General Requirements

TUV Rheinland of North America, Inc. (TUV)

[Docket No. NRTL3-92]

Withdrawn or Replaced Standards

UL 136 Pressure Cookers (not appropriate—no NRTL approval requirement)

UL 1409 Low-Voltage Video Products Without Cathode-Ray-Tube Displays

UL 1570 Fluorescent Lighting Fixtures

UL 1571 Incandescent Lighting Fixtures

UL 1572 High Intensity Discharge Lighting Fixtures

UL 3101-1 Electrical Equipment for Laboratory Use; Part 1: General Requirements

UL 3111-1 Electrical Measuring and Test Equipment; Part 1: General Requirements**

UL 3121-1 Process Control Equipment

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type**

UL 8730-2-8 Automatic Electrical Controls for Household and Similar Use; Part 2: Particular Requirements for Electrically Operated Water Valves

Comparable Replacement Standards (If Applicable)

UL 1262 Laboratory Equipment (requested by NRTL)

UL 1598 Luminaries (already included in NRTL's scope)

UL 60730-1A Automatic Electrical Controls for Household and Similar Use; Part 1: General Requirements

UL 60730-2-3 Automatic Electrical Controls for Household and Similar Use; Part 2: Particular Requirements for Thermal Protectors for Ballasts for Tubular Fluorescent Lamps

UL 60730-2-16A Automatic Electrical Controls for Household and Similar Use; Part 2: Particular Requirements for Automatic Electrical Water Level Controls

UL 61010A-1 Electrical Equipment For Laboratory Use; Part 1: General Requirements

UL 61010C-1 Process Control Equipment

Underwriters Laboratories Inc. (UL)

[Docket No. NRTL4-93]

Withdrawn or Replaced Standards

ANSI C37.71 Three Phase, Manually Operated Subsurface Load Interrupting Switches for Alternating-Current Systems

ANSI C57.12.13 Liquid-Filled Transformers Used in Unit Installations including Unit Substations-Conformance Requirements

ANSI C57.12.21 Pad Mounted Compartmental-Type Self-Cooled Single-Phase Distribution Transformers with High Voltage Bushings; 167 kVA and Smaller

ANSI C57.12.27 Liquid Filled Distribution Transformers Used in Pad Mounted Installations, Including Unit Substations-Conformance Requirements

ANSI C62.1 Gapped Silicon-Carbide Surge Arresters for AC Power Circuits

ANSI Z21.10.2 Water Heaters-Sidearm Type Water Heaters

ANSI Z21.11.1 Gas-Fired Room Heaters-Vented Room Heaters

ANSI Z21.14 Approval Requirements for Industrial Gas Boilers

ANSI Z21.16 Gas Unit Heaters

ANSI Z21.29 Listing Requirements for Furnace Temperature Limit Controls and Fan Controls

ANSI Z21.37 Approval Requirements for Dual Oven Type Combination Gas Ranges

ANSI Z21.48 Gas-Fired Gravity and Fan Type Floor Furnaces

ANSI Z21.49 Gas-Type Gravity and Fan Type Vented Wall Furnaces

ANSI Z21.53 Gas-Fired Heavy Duty Forced Air Heaters

ANSI Z21.55 Gas-Fired Sauna Heaters

ANSI Z21.70 Earthquake Actuated Automatic Gas Shutoff Systems

ANSI Z83.3 Gas Utilization Equipment in Large Boilers

ANSI Z83.10 Separated Combustion System Central Furnaces

ANSI Z83.17 Direct Gas Fired Door Heaters

UL 198B Class H Fuses

UL 198C High-Interrupting-Capacity Fuses, Current Limiting Type

UL 198D Class K Fuses

UL 198E Class R Fuses

UL 198F Plug Fuses

UL 198G Fuse for Supplementary Overcurrent Protection

UL 198H Class T Fuses

UL 198L D-C Fuses for Industrial Use

ANSI/NEMA 250 Enclosures for Electrical Equipment

UL 900 Air-Filter Units (not appropriate—no NRTL approval requirement)

UL 910 Test for Flame-Propagation and Smoke-Density Values for Electrical and Optical-Fiber Cables Used in Spaces Transporting Environmental Air

UL 1087 Molded-Case Switches

UL 1244 Electrical and Electronic Measuring and Testing Equipment**

UL 1270 Radio Receivers, Audio Systems, and Accessories

UL 1409 Low-Voltage Video Products Without Cathode-Ray-Tube Displays

UL 1410 Television Receivers and High-Voltage Video Products

UL 1570 Fluorescent Lighting Fixtures

UL 1571 Incandescent Lighting Fixtures

UL 1572 High Intensity Discharge Lighting Fixtures

UL 3101-1 Electrical Equipment for Laboratory Use; Part 1: General Requirements

UL 3101-2-20 Electrical Equipment for Laboratory Use; Part 2: Laboratory Centrifuges Electrical Equipment for Laboratory Use; Part 1: General Requirements

UL 3111-1 Electrical Measuring and Test Equipment; Part 1: General Requirements**

UL 3121-1 Process Control Equipment

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type**

UL 8730-2-6 Automatic Electrical Controls for Household and Similar Use; Part 2: Particular Requirements for Automatic Electrical Pressure Sensing Controls Including Mechanical Requirements

UL 8730-2-7 Automatic Electrical Controls for Household and Similar Use; Part 2: Particular Requirements for Timers and Time Switches

UL 8730-2-8 Automatic Electrical Controls for Household and Similar Use; Part 2: Particular Requirements for Electrically Operated Water Valves

UL 8730-2-9 Automatic Electrical Controls for Household and Similar Use; Part 2: Particular Requirements for Temperature Sensing Controls**

UL 8730-2-14 Automatic Electrical Controls for Household and Similar Use; Part 2: Particular Requirements for Electric Actuators

UL 60730-2-10 Automatic Electrical Controls for Household and Similar Use; Part 2: Particular Requirements for Electrically-Operated Motor Starting Relays

UL 60730-2-11 Automatic Electrical Controls for Household and Similar Use; Part 2: Particular Requirements for Energy Regulators

UL 60730-2-12 Automatic Electrical Controls for Household and Similar Use; Part 2: Particular Requirements for Electrically-Operated Doors

UL 60730-2-13 Automatic Electrical Controls for Household and Similar Use; Part 2: Particular Requirements for Humidity Sensing Controls

UL 60730-2-16 Automatic Electrical Controls for Household and Similar Use; Part 2: Particular Requirements for Automatic Electrical Water Level-Operating Controls of the Float Type for Household and Similar Applications

Comparable Replacement Standards (If Applicable)

UL 1598 Luminaries (already included in NRTL's scope)

UL 60730-1A Automatic Electrical Controls for Household and Similar Use; Part 1: General Requirements

UL 60730-2-3 Automatic Electrical Controls for Household and Similar Use; Part 2: Particular Requirements for Thermal Protectors for Ballasts for Tubular Fluorescent Lamps

UL 60730-2-6 Automatic Electrical Controls for Household and Similar Use; Part 2: Particular Requirements for Automatic Electrical Pressure Sensing Controls Including Mechanical Requirements

UL 60730-2-7 Automatic Electrical Controls for Household and Similar Use; Part 2: Particular Requirements for Timers and Time Switches

UL 60730-2-10A Automatic Electrical Controls for Household and Similar Use; Part 2: Particular Requirements for Motor Starting Relays

UL 60730-2-11A Automatic Electrical Controls for Household and Similar Use; Part 2: Particular Requirements for Energy Regulators

UL 60730-2-12A Automatic Electrical Controls for Household and Similar Use; Part 2: Particular Requirements for Electrically Operated Door Locks

UL 60730-2-13A Automatic Electrical Controls for Household and Similar Use; Part 2: Particular Requirements for Humidity Sensing Controls

UL 60730-2-14 Automatic Electrical Controls for Household and Similar Use; Part 2: Particular Requirements for Electric Actuators

UL 60730-2-16A Automatic Electrical Controls for Household and Similar Use; Part 2: Particular Requirements for Automatic Electrical Water Level Controls

UL 61010A-1 Electrical Equipment For Laboratory Use; Part 1: General Requirements

UL 61010A-2-020 Electrical Equipment for Laboratory Use; Part 2: Particular Requirements for Laboratory Centrifuges

UL 61010C-1 Process Control Equipment

Wyle Laboratories, Inc. (WL)

[Docket No. NRTL1-93]

Withdrawn or Replaced Standards

UL 198B Class H Fuses

UL 198C High-Interrupting-Capacity Fuses, Current Limiting Type

UL 198D Class K Fuses

UL 198E Class R Fuses

UL 198F Plug Fuses

UL 198G Fuse for Supplementary Overcurrent Protection

UL 198H Class T Fuses

UL 198L D-C Fuses for Industrial Use

UL 1087 Molded-Case Switches

UL 1244 Electrical and Electronic Measuring and Testing Equipment**

UL 1570 Fluorescent Lighting Fixtures

UL 1571 Incandescent Lighting Fixtures

Comparable Replacement Standards (If Applicable)

UL 1598 Luminaries (already included in NRTL's scope)

UL 3111-1 Electrical Measuring and Test Equipment; Part 1: General Requirements*

*Note on addition of UL 3111-1 to Wyle's scope: This test standard is comparable to UL 1244, which is currently included in Wyle's scope of recognition. Wyle requested the addition of UL 3111-1 to its scope due to the pending withdrawal of UL 1244. However, as noted in the note below, UL 3111-1 is also due to be replaced. Therefore, the following note also applies to the addition of this standard.

**Note on test standard to be withdrawn: This standard is due to be withdrawn by the standards development organization. However, as of the date of this notice, the OSHA NRTL Program staff has not determined whether or not there will be a replacement test standard. As a result, we will not remove this standard from the scope of the NRTL upon publication of this notice. Once we make the above determination, OSHA will replace or remove this standard, as appropriate. This note applies to the following test standards : UL 1244, UL 3111-1, UL 8730-2-4, and UL 8730-2-9.

In accordance with OSHA policy pertaining to recognition of replacement standards, the Agency only publishes one Federal Register notices to note the changes to the NRTL's scope of recognition. Changes to each NRTL's recognition are limited to those described in this notice. All other terms and conditions of each NRTL's recognition remain the same.

Signed at Washington, DC this 17th day of December, 2002.
John L. Henshaw,
Assistant Secretary.

[FR Doc. 03-123 Filed 1-3-03; 8:45 am]

BILLING CODE 4510-26-P